DEPARTMENT OF THE INTERIOR

Bureau of Land Management

[NM-070-03-1610-DR]

Notice of Availability of the Record of Decision for Proposed Farmington Resource Management Plan Revision and Environmental Impact Statement

AGENCY: Bureau of Land Management, New Mexico State Office, Interior.

ACTION: Notice of availability.

SUMMARY: In accordance with the Federal Land Policy and Management Act and the National Environmental Policy Act, the Bureau of Land Management (BLM) announces the availability of the Record of Decision (ROD) for the Proposed Farmington Resource Management Plan (RMP) revision and Final Environmental Impact Statement (EIS). The revised plan addressed the oil and gas estate administered by BLM in the Farmington Field Office and the Albuquerque Field Office; the U.S. Forest Service (USFS), Jicarilla District of the Carson National Forest; portions of the Coyote and Cuba Districts of the Santa Fe National Forest, and the Bureau of Reclamation (BOR) for lands surrounding Navajo Reservoir. Other issues relating to landownership adjustments, Off-Highway Vehicle management, Specially Designated Areas, and coal leasing suitability were addressed only for lands administered by the Farmington Field Office. The USFS and BOR were cooperating agencies in preparation of the RMP. The Final EIS and Proposed RMP were available for protest from April 4, 2003, to May 5, 2003. All protests and comments were considered during the preparation of the ROD.

ADDRESSES: Copies of the ROD have been sent to affected Federal, State, and local Government agencies and to interested parties. The document will be available electronically on the following Web site: http://www.nm.blm.gov/. Copies of the ROD are available for public inspection at the following BLM office locations: Farmington Field Office, 1235 La Plata Highway, Farmington, NM 87401; and Albuquerque Field Office, 435 Montano Rd. NE, Albuquerque, NM 87107.

FOR FURTHER INFORMATION CONTACT: James Ramakka, RMP Project Manager, Bureau of Land Management, Farmington Field Office, 1235 La Plata Highway, Farmington, NM 87401 (505-599-6307).

SUPPLEMENTARY INFORMATION: This ROD approves the proposed revision to the Farmington RMP. The RMP provides guidance for managing approximately 1,415,300 acres of public land and 3,020,693 acres of Federal minerals in San Juan, McKinley, Rio Arriba and Sandoval Counties. The overall planning area encompasses 8,274,100 acres.

The ROD approves new decisions concerning oil and gas leasing and development, Off-Highway Vehicle (OHV) designations, landownership adjustments, management of Specially Designated Areas, and coal leasing suitability. These decisions are intended to replace goals, objectives, management actions and conditions of use described in the 1988 Farmington RMP and subsequent amendments related to these matters. No other decisions of the 1988 Farmington RMP or amendments are affected.

Dated: August 14, 2003.
Linda S.C. Rundell,
New Mexico State Director.

[FR Doc. 03-25616 Filed 10-8-03; 8:45 am]

BILLING CODE 4310-FB-P